SECURITIES AND EXCHANGE COMMISSION

[Release No. 34-48161A; File No. SR-NASD-2003-57]

Self-Regulatory Organizations; National Association of Securities Dealers, Inc; Order Granting Approval of Proposed Rule Change and Amendment Nos. 1 and 2 Thereto, and Notice of Filing and Order Granting Accelerated Approval To Amendment No. 3 to the Proposed Rule Change Relating to Revisions to the Uniform Application for Securities Industry Registration or Transfer (Form U-4) and Uniform Termination Notice for Securities Industry Registration (Form U-5)

July 16, 2003.

Correction

In Release No. 34-48161, issued on July 10, 2003 (“Approval Order”), an inaccurate reference to Question 14J of the Uniform Application for Securities Industry Registration or Transfer (“Form U4”) appeared. The Approval Order's Purpose Section contained the inaccurate reference due to a typographical, non-substantive error on the part of the National Association of Securities Dealers, Inc. (“NASD”) in the third amendment to the proposed rule change.¹ Specifically, in footnote 11 of the Approval Order, Question 14J is inaccurately referenced in three instances, rather than Question 14M. The corrected text of footnote 11 of the Approval Order appears below. Additions are in italics and deletions are in brackets.

¹ See letter from Patrice M. Gliniecki, Vice President and Deputy General Counsel, NASD, to Katherine A. England, Assistant Director, Division, Commission (July 1, 2003) (“Amendment No. 3”) (The Commission notes that the NASD inadvertently numbered Amendment No. 3 as Amendment No. 1). In Amendment No. 3, the NASD responded to comments submitted by the Association of Registration Management (“ARM”) arguing, primarily, that the information being sought by the additional questions being added to the Form U4 was already captured by pre-existing questions on the Form U4 and that the addition of such questions would create a monumental administrative burden for member firms.

* * * * *

Footnote 11:

The CRD system will process such Form U4 filings as follows. If a registered person has a “yes” answer to any question in Questions 14A through [J]M in the Disclosure Section of the Form U-4 on or after July 14, the CRD system will require that the firm filing an amended Form U-4 enter a response (by selecting the appropriate “yes” or “no” radio button) to new disclosure Question 14D(2) and also obtain a completed Section 15D. If those questions are not answered, the filing will fail the CRD system completeness check. For the sake of clarity, NASD notes that an amendment to a Form U-4 filing on or after July 14, for the purpose of adding a “yes” answer to Questions 14A through [J]M, when previously there had been no “yes” answers, would require the firm filing the amendment to answer new disclosure Question 14D(2) and obtain a completed Section 15D.

If a registered person does not have a “yes” answer to Questions 14A through [J]M in the Disclosure Section of the Form U-4, the CRD system will default new disclosure Question 14D(2) with a “no” response for any filings prepared for submission after implementation of the new questions, and the firm will not be required to obtain a completed Section 15D for the purposes of answering Question 14D(2). Form U-4 amendments filed by the firm for such individuals will not fail the completeness check due to these new questions; however, by submitting the filing, firms will be representing that they are filing “no” answers to the new questions, unless they affirmatively change the “no” answer to “yes” before submitting the filing. Similarly, as discussed above, registered persons who have not filed an amended Form U-4 reporting credit union regulatory proceedings within the specified 30-day period will be deemed to have represented that they have not been the subject of any such proceedings.

* * * * *

For the Commission, by the Division of Market Regulation, pursuant to delegated authority.²
² 17 CFR 200.30-2(a)(12).
Margaret H. McFarland,
Deputy Secretary.

[FR Doc. 03-18527 Filed 7-21-03; 8:45 am]

BILLING CODE 8010-01-P